DEPARTMENT OF HEALTH AND HUMAN SERVICES

Administration for Children and Families

Submission for OMB Review; Release of Unaccompanied Alien Children From ORR Custody (0970-0552)

AGENCY: Office of Refugee Resettlement; Administration for Children and Families; Department of Health and Human Services.

ACTION: Request for public comment.

SUMMARY: The Office of Refugee Resettlement (ORR), Administration for Children and Families (ACF), Department of Health and Human Services (HHS), is proposing to continue to collect information that will allow Unaccompanied Alien Children (UAC) Program to process release of UAC from ORR custody and provide services after release. These information collections were originally approved under emergency approval for 6 months. This request is to continue data collection. Information collections related to other aspects of the UAC Programs, such as sponsorship and health care, are covered under OMB Numbers 0970-0278, 0970-0385, 0970-0466, 0970-0490, 0970-0498, 0970-0509, and 0970-0543.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The components of this information request include:

1. Discharge Notification (Form R-2): This instrument is used by care provider facilities to notify stakeholders of the transfer of a UAC to another care provider facility or the release of a UAC from ORR custody.

2. Notice to Immigration and Customs Enforcement (ICE) Chief Counsel—Release of Unaccompanied Alien Child to Sponsor and Request to Change Address (Form R-3): This instrument is used by care provider facilities to notify ICE Chief Counsel of the release of a UAC and request a change of address.

3. Release Request (Form R-4): This instrument is used by care provider facilities, ORR contractor staff, and ORR Federal staff to process recommendations and decisions for release of a UAC from ORR custody.

4. Safety and Well-Being Follow-Up Call Report (Form R-6): This instrument is used by care provider facilities to document the outcome of calls made to UAC and their sponsors after release to ensure the child is safe and refer the sponsor to additional resources as needed.

Respondents: ORR grantee and contractor staff; and released children and sponsors.

Annual Burden Estimates
Instrument | Annual total number of respondents | Annual total number of responses per respondent | Average burden minutes per response | Annual total burden minutes
Discharge Notification (Form R-2) | 206 | 416 | 7 | 599,872
Notice to ICE Chief Counsel—Release of Unaccompanied Alien Child to Sponsor and Request to Change Address (Form R-3) | 206 | 377 | 3 | 232,986
Release Request (Form R-4) | 206 | 356 | 45 | 3,300,120
Safety and Well-Being Follow Up Call Report (R-6) | 206 | 354 | 30 | 2,187,720
Estimated Annual Burden Total: |  |  |  | 6,320,698

Authority: 6 U.S.C. 279; 8 U.S.C. 1232; Flores v. Reno Settlement Agreement, No. CV85-4544-RJK (C.D. Cal. 1996)

Mary B. Jones,
ACF/OPRE Certifying Officer.

[FR Doc. 2020-27896 Filed 12-17-20; 8:45 am]

BILLING CODE 4184-45-P